ENVIRONMENTAL PROTECTION AGENCY

[EPA-HQ-OPPT-2014-0486; FRL-9933-45-OEI]

Information Collection Request Submitted to OMB for Review and Approval; Comment Request; Lead Training, Certification, Accreditation and Authorization Activities

AGENCY: Environmental Protection Agency (EPA).

ACTION: Notice.

SUMMARY: EPA has submitted the following information collection request (ICR) to the Office of Management and Budget (OMB) for review and approval in accordance with the Paperwork Reduction Act (PRA): “Lead Training, Certification, Accreditation and Authorization Activities” and identified by EPA ICR No. 2507.01 and OMB Control No. 2070-NEW. The ICR, which is available in the docket along with other related materials, provides a detailed explanation of the collection activities and the burden estimate that is only briefly summarized in this document. EPA did not receive any comments in response to the previously provided public review opportunity issued in the Federal Register on December 29, 2014 (79 FR 78084). With this submission, EPA is providing an additional 30 days for public review.

DATES: Comments must be received on or before December 28, 2015.

ADDRESSES: Submit your comments, identified by docket identification (ID) number EPA-HQ-OPPT-2014-0486, to both EPA and OMB as follows:

• To EPA online using http://www.regulations.gov (our preferred method) or by mail to: EPA Docket Center, Environmental Protection Agency, Mail Code 28221T, 1200 Pennsylvania Ave. NW., Washington, DC 20460.

• To OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Colby Lintner, Environmental Assistance Division (7408M), Office of Pollution Prevention and Toxics, Environmental Protection Agency, 1200 Pennsylvania Ave. NW., Washington, DC 20460-0001; telephone number: (202) 554-1404; email address: TSCA-Hotline@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW., Washington, DC. The telephone number for the Docket Center is (202) 566-1744. For additional information about EPA's public docket, visit http://www.epa.gov/dockets.

ICR status: This is a new ICR. that seeks to consolidate the information collection activities that are currently covered by the following three ICRs that are currently approved by OMB under the separate OMB control numbers identified:

1. OMB Control No. 2070-0155; EPA ICR No. 1715.14; entitled “TSCA Sections 402 and Section 404 Training, Certification, Accreditation and Standards for Lead-Based Paint Activities and Renovation, Repair, and Painting”; approved through August 31, 2018.

2. OMB Control No. 2070-0158; EPA ICR No. 1669.07; entitled “Lead-Based Paint Pre-Renovation Information Dissemination—TSCA Sec. 406(b)”; approved through August 31, 2018.

3. OMB Control No. 2070-0181; EPA ICR No. 2381.03; entitled “ICR for the Final Rule entitled “Lead; Clearance and Clearance Testing Requirements for the Renovation, Repair, and Painting Program”; approved through August 31, 2018.

Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: This consolidated ICR will cover the information collection activities imposed on entities conducting lead-based paint related activities currently approved in the ICRs listed above. Following approval of this ICR, the previous ICRs will be discontinued.

Respondents/Affected entities: Private entities and state, territorial or Native American agencies who are engaged in or who administer lead-based paint activities or programs.

Respondent's obligation to respond: Mandatory (see 40 CFR part 745). Respondents may claim all or part of a document confidential. EPA will disclose information that is covered by a claim of confidentiality only to the extent permitted by, and in accordance with, the procedures in TSCA section 14 and 40 CFR part 2.

Estimated total number of potential respondents: 791,805.

Frequency of response: On occasion.

Estimated total burden: 5,746,565 hours (per year). Burden is defined at 5 CFR 1320.3(b).

Estimated total costs: $283,187,555 (per year), includes no annualized capital investment or maintenance and operational costs.

Changes in the estimates: There is an overall decrease of 282,737 hours in the total estimated combined respondent burden that is currently approved by OMB in the three ICRs consolidated in this request. This decrease reflects changes in EPA's estimates of the number of respondents and burden-related activities based on economic conditions in the housing market and related industries. Further, the fact that the 2008 Renovation, Repair and Painting (RRP) rule and the 2010 Opt-Out rule have been in place for several years allows this ICR to use estimates based on actual certification data instead of making broader assumptions about industry behavior. Further details about these changes are included in the supporting statement for this ICR. This change is an adjustment.

Authority: 44 U.S.C. 3501 et seq.

Courtney Kerwin,
Acting Director, Collection Strategies Division.

[FR Doc. 2015-30114 Filed 11-25-15; 8:45 am]

BILLING CODE 6560-50-P